SECURITIES AND EXCHANGE COMMISSION

[File No. 500-1]

In the Matter of Certain Companies Quoted on the Pink Sheets: Order of Suspension of Trading

March 8, 2007.

It appears to the Securities and Exchange Commission that there is a lack of current and accurate information concerning the securities of the issuers listed below. As set forth below for each issuer, questions have arisen regarding the adequacy and accuracy of publicly disseminated information concerning, among other things: (1) The companies' assets, (2) the companies' business operations, (3) the companies' current financial condition, and/or (4) financing arrangements involving the issuance of the companies' shares.

1. Advanced Powerline Technologies Inc. is a Nevada company based in Oklahoma. Questions have arisen regarding the adequacy and accuracy of press releases concerning the company's operations and performance.

2. America Asia Petroleum Corp. is a Nevada company with offices in Nevada and China. Questions have arisen regarding the adequacy and accuracy of press releases concerning the company's assets and operations.

3. Amerossi Int'l Group, Inc. is a Wyoming company with offices in Bangkok, Thailand. Questions have arisen regarding the adequacy and accuracy of press releases concerning the company's assets.

4. Apparel Manufacturing Associates, Inc. is a Delaware company with offices in Bloomfield, Connecticut. Questions have arisen regarding the adequacy and accuracy of press releases concerning the company's management and operations.

5. Asgard Holdings Inc. is a Nevada company based in California. Questions have arisen regarding the adequacy and accuracy of press releases concerning the company's operations and concerning stock promoting activity by the company.

6. Biogenerics Ltd. is a Nevada company with offices in Texas. Questions have arisen regarding the adequacy and accuracy of press releases concerning the company's operations and assets.

7. China Gold Corp. is a Nevada company with offices in China. Questions have arisen regarding the adequacy and accuracy of press releases concerning the company's operations and assets.

8. CTR Investments & Consulting, Inc. is a Nevada company based in Maryland. Questions have arisen regarding the adequacy and accuracy of press releases concerning the company's operations.

9. DC Brands International, Inc. is a company incorporated and based in Colorado. Questions have arisen regarding the adequacy and accuracy of press releases concerning the company's operations.

10. Equal Trading, Inc. is a Nevada company with offices in Illinois. Questions have arisen regarding the adequacy and accuracy of press releases concerning the company's operations and financial condition.

11. Equitable Mining Corp. is a Wyoming company with offices in Toronto, Ontario. Questions have arisen regarding the adequacy and accuracy of press releases concerning the company's assets.

12. Espion International, Inc. is a Nevada company based in California. Questions have arisen regarding the adequacy and accuracy of press releases concerning the company's operations and financing arrangements.

13. Goldmark Industries, Inc. is a Nevada company based in Vancouver, British Columbia, Canada. Questions have arisen regarding the adequacy and accuracy of press releases concerning the company's operations and financing arrangements and the adequacy of publicly available information concerning the company's management.

14. GroFeed Inc. is a Nevada company with offices in Toronto, Ontario, Canada. Questions have arisen regarding the adequacy and accuracy of press releases concerning the company's operations and assets.

15. Healtheuniverse, Inc. is a company incorporated and based in California. Questions have arisen regarding the adequacy and accuracy of press releases concerning the company's operations and concerning stock promoting activity.

16. Interlink Global Corp. is a company incorporated and based in Florida. Questions have arisen regarding the adequacy and accuracy of press releases concerning the company's operations and concerning stock promoting activity by the company.

17. Investigative Services Agencies, Inc. is a company incorporated and based in Illinois. Questions have arisen regarding the adequacy and accuracy of press releases concerning the company's operations and financial performance.

18. iPackets International, Inc. is a Nevada company with offices in Vancouver, British Columbia, Canada. Questions have arisen regarding the adequacy and accuracy of press releases concerning the company's operations and assets.

19. Koko Petroleum Inc. is a Nevada company with offices in British Columbia, Canada. Questions have arisen regarding the adequacy and accuracy of press releases concerning the company's assets.

20. Leatt Corporation is a Nevada company with offices in Las Vegas, Nevada. Questions have arisen regarding the adequacy and accuracy of press releases concerning the company's assets and operations.

21. LOM Logistics, Inc. is a Louisiana company. Questions have arisen regarding the adequacy and accuracy of press releases concerning the company's operations.

22. Modern Energy Corp. is a Wyoming company with offices in California. Questions have arisen regarding the adequacy and accuracy of press releases concerning the company's operations and financial condition.

23. National Healthcare Logistics, Inc., is a Nevada company with offices in Tennessee. Questions have arisen regarding the adequacy and accuracy of press releases concerning the company's operations.

24. Presidents Financial Corp. is a Nevada company with offices in Vancouver, British Columbia, Canada. Questions have arisen regarding the adequacy and accuracy of press releases concerning the company's management and operations.

25. Red Truck Entertainment Inc. is a Nevada company with offices in Scottsdale, Arizona. Questions have arisen regarding the adequacy and accuracy of press releases concerning the company's operations and financial performance and the adequacy of publicly available information concerning the company's stock issuances.

26. Relay Capital Corp. is a Nevada company with offices in Scottsdale, Arizona. Questions have arisen regarding the adequacy and accuracy of press releases concerning the company's operations.

27. Rodedawg International Industries, Inc., is a Nevada company with offices in California. Questions have arisen regarding the adequacy and accuracy of press releases concerning the company's operations.

28. Rouchon Industries, Inc., is a company incorporated and based in California. Questions have arisen regarding the adequacy and accuracy of press releases concerning the company's financing arrangements and financial performance.

29. Software Effective Solutions Corp. is a Louisiana company located in the Philippines. Questions have arisen regarding the adequacy and accuracy of press releases concerning the company's operations.

30. Solucorp Industries Ltd. is a Canadian company with offices in Florida. Questions have arisen regarding the adequacy and accuracy of press releases concerning the company's financial performance and the adequacy of publicly available information concerning insider stock holdings and transactions.

31. Sports-stuff.com Inc. is a Nevada company. Questions have arisen regarding the adequacy and accuracy of press releases concerning the company's operations.

32. UBA Technology, Inc., is a Nevada company. Questions have arisen regarding the adequacy and accuracy of press releases concerning the company's operations.

33. Wataire Industries Inc. is a Nevada company with offices in Surrey, British Columbia, Canada. Questions have arisen regarding the adequacy and accuracy of press releases concerning the company's operations and assets.

34. WayPoint Biomedical Holdings, Inc., is a Nevada company with offices in California. Questions have arisen regarding the adequacy and accuracy of press releases concerning the company's operations and financing arrangements.

35. Wineco Productions Inc. is a Nevada company with offices in Florida. Questions have arisen regarding the adequacy and accuracy of press releases concerning the company's operations.

The Commission is of the opinion that the public interest and the protection of investors require a suspension of trading in the securities of the companies listed above.

Therefore, it is ordered, pursuant to Section 12(k) of the Securities Exchange Act of 1934, that trading in the companies listed above is suspended for the period from 9:30 a.m. EST, March 8, 2007, through 11:59 p.m. EDT, on March 21, 2007.

By the Commission.
Nancy M. Morris,
Secretary.

[FR Doc. 07-1163 Filed 3-8-07; 1:43 pm]

BILLING CODE 8010-01-P